DEPARTMENT OF AGRICULTURE

Forest Service

Shasta County Resource Advisory Committee

AGENCY: Forest Service, USDA.

ACTION: Notice of meeting.

SUMMARY: The Shasta County Resource Advisory Committee (RAC) will meet in Redding, CA. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to discuss the monitoring of past projects, and to discuss and vote on recommendations for the use of funds from the Secure Rural Schools second one-year extension to the 2008-2011 RAC authorization.

DATES: The meeting will be held September 18, 2013 at 9:00 a.m.

ADDRESSES: The meeting will be held at the USDA Service Center, 3644 Avtech Parkway, Redding, California; in conference rooms A and B. Written comments may be submitted as described under SUPPLEMENTARY INFORMATION.

All comments, including names and addresses when provided, are placed in the record and are available for public inspection and copying. The public may inspect comments received at the USDA Service Center, 3644 Avtech Parkway, Redding, California. Please call ahead to facilitate entry into the building to view comments.

FOR FURTHER INFORMATION CONTACT: Mary St. John, RAC Assistant, at 530-351-3154 or maryst.john@hotmail.com.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accomodation for access to the facility or procedings by contacting the person listed For Further Information.

SUPPLEMENTARY INFORMATION: The meeting agenda is available at http://www.fs.usda.gov/main/stnf/workingtogether/advisorycommittees. Anyone who would like to bring related matters to the attention of the committee may file written statements with the committee staff before or after the meeting. The agenda will include time for people to make oral statements of three minutes or less. Individuals wishing to make an oral statement should request in writing by September 2, 2013 to be scheduled on the agenda. Written comments and requests for time for oral comments must be sent to Donna Harmon, USDA Service Center, 3644 Avtech Parkway, Redding, California 96002 or by email to dharmon@fs.fed.us or via facsimile to 530-226-2486.

A summary of the meeting will be posted at the RAC Web site listed above within 21 days of the meeting.

Dated: August 15, 2013.
Donna F. Harmon,
Designated Federal Official, Shasta-Trinity National Forest.

[FR Doc. 2013-20364 Filed 8-20-13; 8:45 am]

BILLING CODE 3410-11-P